DEPARTMENT OF STATE

[Public Notice 4247]

International Joint Commission To Hold Hearings on Water Uses in the Great Lakes Basin

The International Joint Commission (IJC) will hold a series of public hearings to obtain comment from the public on action taken by governments on the issue of water uses in the Great Lakes basin before reporting to the Governments of Canada and the United States. The hearings are scheduled to take place at the following dates and locations:

Toronto, January 20, 2003, City Hall, 100 Queen Street West, Toronto, Ontario, Council Chamber, 7 p.m.

Chicago, January 21, 2003, Drake Hotel, 140 East Walton Place, Chicago, Illinois, Michigan Room, 3 p.m. & 7 p.m.

Montréal, February 3, 2003, Queen Elizabeth Hotel, 900 René-Lévesque blvd., Montréal, Québec, Room St. Maurice, 7 p.m.

The IJC published a comprehensive report entitled Protection of the Waters of the Great Lakes in 2000. In that report the IJC recommended that it review the issue after three years to provide an update on how matters had changed over that period of time. In late 2000 the governments subsequently agreed.

In June of last year, the Commission appointed the International Water Uses Review Task Force to assist it in carrying out the three-year review. The Task Force reviewed the many technical, policy and legal developments that have taken place in the basin and reviewed actions taken by federal, state and provincial authorities to address the issues raised in the Commission's 2000 report.

The Task Force has now completed its work and submitted its report to the Commission. That report is available on the Commission's Web site: http://www.ijc.org. Hard copies of the report are also available from either one of the Commission's offices listed below. The report of the Task Force represents the views and analysis of the Task Force and not necessarily the views of the Commission. The Commission will prepare its report to governments based on its own analysis, the report of the Task Force, and comments received concerning the Task Force report and other related matters.

In addition to the public hearings listed above, the IJC invites all interested parties to submit written comment on this investigation to: Secretary, U.S. Section, 1250 23rd Street NW., Suite 100, Washington, DC 20440, Fax: 202.736.9015, Commission@washington.ijc.org.

Due to the security clearing of mail, communications with the IJC's Washington office should be by fax or email to ensure timely receipt. It would be most helpful if written comments were received by February 10, 2003.

The International Joint Commission is a binational Canada-U.S. organization established by the Boundary Waters Treaty of 1909. It assists the governments in managing waters along the border for the benefit of both countries in a variety of ways including examining issues referred to it by the two federal governments.

Dated: January 6, 2003.
Gerald Galloway,
Secretary, United States Section, International Joint Commission.

[FR Doc. 03-502 Filed 1-9-03; 8:45 am]

BILLING CODE 4710-14-P